DEPARTMENT OF THE INTERIOR

Bureau of Reclamation

Change of Use for the Oak Shores Recreation Area at Lake Berryessa, Napa County, CA

AGENCY: Bureau of Reclamation, Interior.

ACTION: Notice of change in use of public access.

SUMMARY: The Bureau of Reclamation's Central California Area Office (CCAO) at Lake Berryessa will temporarily change public use at Oak Shores Day Use Area. After 50 years, concession contracts have expired and recreational opportunities provided at four closed resorts are no longer available. Until such time as new contracts can be awarded, Reclamation will provide a change from day use to overnight camping at this area. The North End of Oak Shores will be converted from day use only to overnight camping with up to 100 sites. Camping will be considered semi-primitive and will provide potable water spigots, restroom facilities, fire rings, picnic tables and some shade shelters. This change in use will serve to enhance public safety, provide additional public recreational services while providing for and protection of cultural and natural resources.

DATES: Effective Dates: The change of use will become effective May 22, 2009 and continue indefinitely until new contracts can be awarded and the new concessioner can begin to provide recreational services.

ADDRESSES: A map is available for review at Reclamation's Lake Berryessa Visitor Center, located at 5520 Knoxville Rd, Napa, California 94558. The map may be viewed between the hours of 10 a.m. and 4 p.m. daily. A copy of the map may be requested from above address, attention: Lake Berryessa Change of Use Map Request.

FOR FURTHER INFORMATION CONTACT: Reclamation, Mid-Pacific Region Public Affairs Office, at 916-978-5100 or Reclamation, Lake Berryessa Recreation Resources Branch, 707-966-2111. Written comments will be accepted regarding this change of use through May 14, 2009. Please send written comments to: Bureau of Reclamation, Attn: Janet Rogers, 5520 Knoxville Rd., Napa, California; Fax: 707-966-0409, E-mail: jrogers@.usbr.gov.

SUPPLEMENTARY INFORMATION: This action is being taken under 43 CFR part 423 to provide recreational services to the public, provide public safety and prevent additional resource degradation. Reclamation will change public use of Oak Shores. Presently Oak Shores is being used for day use; picnics, fishing, wildlife viewing, and swimming. By not providing designated camping, additional resource degradation at non-designated sites would occur.

The south side of Oak Shores will remain open for day use and the north side will be sectioned off to provide for the campsites. Camping at Oak Shores will be available for up to fourteen days only during any period of 30 consecutive days, as required by 43 CFR part 423.33.

Reclamation will develop the campgrounds and offer an interim contract to a concessioner for operation of the campgrounds. Security will be provided by the concessioner. A reservation system will be required and fees will be charged based on comparable fees to other areas in a 100 mile radius of Lake Berryessa. The public will be notified of the changes through signage, newspaper press releases and Web site postings.

This order is posted in accordance with 43 CFR part 423.60. Violation of this prohibition or any prohibition listed in 43 CFR part 423 is punishable by fine or imprisonment for not more than six months or both.

Dated: April 7, 2009.
Michael R. Finnegan,
Area Manager, Central California Area Office.

[FR Doc. E9-8468 Filed 4-13-09; 8:45 am]

BILLING CODE 4310-MN-P